NATIONAL CRIME PREVENTION AND PRIVACY COMPACT COUNCIL

Notice of Intent To Publish a Rule Permitting the Privatization of Noncriminal Justice Criminal History Record Check Functions

AGENCY: National Crime Prevention and Privacy Compact Council.

ACTION: Notice of intent to publish a rule that will permit the privatization of administrative functions requiring access to criminal history record information for noncriminal justice purposes.

SUMMARY: Pursuant to Title 28, Code of Federal Regulations (CFR), Chapter IX, the Compact Council (Council), established by the National Crime Prevention and Privacy Compact Act of 1998 (Compact), is issuing notice of its intent to promulgate a rule enabling third parties to act as agents for governmental and nongovernmental agencies while performing administrative functions requiring access to criminal history record information (CHRI) for authorized noncriminal justice purposes.

Authority: Title 42, United States Code, Section 14616.

Additionally, a limited number of third parties will be preapproved by the FBI to serve as conduits to send electronic noncriminal justice fingerprint requests to, and receive CHRI from, the FBI's Criminal Justice Information Services (CJIS) Division for dissemination to authorized recipients as provided by federal statute or federal executive order.

FOR FURTHER INFORMATION CONTACT: Ms. Cathy L. Morrison, interim FBI Compact Officer, FBI CJIS Division, 1000 Custer Hollow Road, Module C3, Clarksburg, WV 26306; Telephone (304) 625-2736; E-mail cmorriso@leo.gov; Fax number (304) 625-5388.

SUPPLEMENTARY INFORMATION: The Council is comprised of federal, state and local representatives of criminal and noncriminal justice agencies. The Compact authorizes the Council to establish rules, procedures, and standards for fingerprint-based noncriminal justice criminal history record checks. The Council, in cooperation with the FBI's CJIS Division and its Advisory Policy Board, is announcing its intent to promulgate a rule that will enable authorized local, state, and federal governmental agencies and nongovernmental entities to contract with the private sector to perform administrative duties relating to the noncriminal justice use of CHRI for employment, licensing, and other authorized purposes.

The reason for the proposed rule is that, over the last several years, the volume of authorized fingerprint-based noncriminal justice criminal history record checks has escalated. In many states, the number of fingerprint submissions for noncriminal justice purposes outnumber those submitted for criminal justice purposes. The escalating number of noncriminal justice fingerprint submissions has resulted in increased workloads for local, state, and federal governmental agencies and for nongovernmental entities. Implementation of the Aviation and Transportation Security Act, the USA PATRIOT Act and other federal and state statutes since the terrorist attacks of September 11, 2001, has contributed to the recent increase of authorized criminal history record checks. Efforts are underway to modify the CFR to permit authorized recipients of CHRI to contract with the private sector to accomplish such fingerprint-based criminal history record checks for noncriminal justice purposes and to do so in an efficient, effective, and secure fashion.

Dated: February 19, 2003.
Monte C. Strait,
Section Chief, Programs Development Section, Federal Bureau of Investigation.

[FR Doc. 03-4611 Filed 2-26-03; 8:45 am]

BILLING CODE 4410-02-P